DEPARTMENT OF HOMELAND SECURITY

Federal Emergency Management Agency

[Docket ID FEMA-2022-0002]

Changes in Flood Hazard Determinations

AGENCY: Federal Emergency Management Agency, Department of Homeland Security.

ACTION: Notice.

SUMMARY: New or modified Base (1-percent annual chance) Flood Elevations (BFEs), base flood depths, Special Flood Hazard Area (SFHA) boundaries or zone designations, and/or regulatory floodways (hereinafter referred to as flood hazard determinations) as shown on the indicated Letter of Map Revision (LOMR) for each of the communities listed in the table below are finalized. Each LOMR revises the Flood Insurance Rate Maps (FIRMs), and in some cases the Flood Insurance Study (FIS) reports, currently in effect for the listed communities.

DATES: Each LOMR was finalized as in the table below.

ADDRESSES: Each LOMR is available for inspection at both the respective Community Map Repository address listed in the table below and online through the FEMA Map Service Center at https://msc.fema.gov.

FOR FURTHER INFORMATION CONTACT: Rick Sacbibit, Chief, Engineering Services Branch, Federal Insurance and Mitigation Administration, FEMA, 400 C Street SW, Washington, DC 20472, (202) 646-7659, or (email) patrick.sacbibit@fema.dhs.gov; or visit the FEMA Mapping and Insurance eXchange (FMIX) online at https://www.floodmaps.fema.gov/fhm/fmx_main.html.

SUPPLEMENTARY INFORMATION: The Federal Emergency Management Agency (FEMA) makes the final flood hazard determinations as shown in the LOMRs for each community listed in the table below. Notice of these modified flood hazard determinations has been published in newspapers of local circulation and 90 days have elapsed since that publication. The Deputy Associate Administrator for Insurance and Mitigation has resolved any appeals resulting from this notification.

The modified flood hazard determinations are made pursuant to section 206 of the Flood Disaster Protection Act of 1973, 42 U.S.C. 4105, and are in accordance with the National Flood Insurance Act of 1968, 42 U.S.C. 4001 et seq., and with 44 CFR part 65. The currently effective community number is shown and must be used for all new policies and renewals.

The new or modified flood hazard information is the basis for the floodplain management measures that the community is required either to adopt or to show evidence of being already in effect in order to remain qualified for participation in the National Flood Insurance Program (NFIP).

This new or modified flood hazard information, together with the floodplain management criteria required by 44 CFR 60.3, are the minimum that are required. They should not be construed to mean that the community must change any existing ordinances that are more stringent in their floodplain management requirements. The community may at any time enact stricter requirements of its own or pursuant to policies established by other Federal, State, or regional entities.

This new or modified flood hazard determinations are used to meet the floodplain management requirements of the NFIP. The changes in flood hazard determinations are in accordance with 44 CFR 65.4.

Interested lessees and owners of real property are encouraged to review the final flood hazard information available at the address cited below for each community or online through the FEMA Map Service Center at https://msc.fema.gov.

(Catalog of Federal Domestic Assistance No. 97.022, “Flood Insurance.”)

Michael M. Grimm,
Assistant Administrator for Risk Management, Department of Homeland Security, Federal Emergency Management Agency.

State and county | Location and case No. | Chief executive officer of community | Community map repository | Date of modification | Community No.
Arizona:
Maricopa (FEMA Docket No.: B-2213). | City of Buckeye (21-09-0404P). | The Honorable Eric Orsborn, Mayor, City of Buckeye, 530 East Monroe Avenue, Buckeye, AZ 85326. | Engineering Department, 530 East Monroe Avenue, Buckeye, AZ 85326. | Apr. 22, 2022 | 040039
Maricopa (FEMA Docket No.: B-2213). | City of Peoria (21-09-1030P). | The Honorable Cathy Carlat, Mayor, City of Peoria, 8401 West Monroe Street, Peoria, AZ 85345. | City Hall, 8401 West Monroe Street, Peoria, AZ 85345. | Apr. 29, 2022 | 040050
Maricopa (FEMA Docket No.: B-2205). | City of Peoria (21-09-1679P). | The Honorable Cathy Carlat, Mayor, City of Peoria, 8401 West Monroe Street, Peoria, AZ 85345. | City Hall, 8401 West Monroe Street, Peoria, AZ 85345. | Mar. 11, 2022 | 040050
Maricopa (FEMA Docket No.: B-2205). | City of Phoenix (21-09-0190P). | The Honorable Kate Gallego, Mayor, City of Phoenix, 200 West Washington Street, Phoenix, AZ 85003. | Street Transportation Department, 200 West Washington Street, 5th Floor, Phoenix, AZ 85003. | Mar. 11, 2022 | 040051
Maricopa (FEMA Docket No.: B-2205). | Unincorporated Areas of Maricopa County (21-09-0190P). | The Honorable Jack Sellers, Chair, Board of Supervisors, Maricopa County, 301 West Jefferson Street, 10th Floor, Phoenix, AZ 85003. | Flood Control District of Maricopa County, 2801 West Durango Street, Phoenix, AZ 85009. | Mar. 11, 2022 | 040037
Maricopa (FEMA Docket No.: B-2205). | Unincorporated Areas of Maricopa County (21-09-1679P). | The Honorable Jack Sellers, Chair, Board of Supervisors Maricopa County, 301 West Jefferson Street, 10th Floor, Phoenix, AZ 85003. | Flood Control District of Maricopa County, 2801 West Durango Street, Phoenix, AZ 85009. | Mar. 11, 2022 | 040037
Santa Cruz (FEMA Docket No.: B-2224). | Unincorporated Areas of Santa Cruz County (21-09-1967P). | The Honorable Manuel Ruiz, Chair, Board of Supervisors, Santa Cruz County, 2150 North Congress Drive #119, Nogales, AZ 85621. | Santa Cruz County Flood Control District, Gabilondo-Zehentner Building, 275 Rio Rico Drive, Rio Rico, AZ 85648. | May 31, 2022 | 040090
Yavapai (FEMA Docket No.: B-2205). | Town of Dewey-Humboldt (21-09-0533P). | The Honorable John Hughes, Mayor, Town of Dewey-Humboldt, 2735 South Highway 69 Suite 12, Humboldt, AZ 86329. | Town Hall, 2735 South Highway, 69 Suite 12, Humboldt, AZ 86329. | Mar. 24, 2022 | 040061
Yavapai (FEMA Docket No.: B-2205). | Town of Prescott Valley (21-09-0533P). | The Honorable Kell Palguta, Mayor, Town of Prescott Valley Civic Center, 7501 East Skoog Boulevard, 4th Floor, Prescott Valley, AZ 86314. | Town Hall, Engineering Division, 7501 East Civic Circle, Prescott Valley, AZ 86314. | Mar. 24, 2022 | 040121
Yavapai (FEMA Docket No.: B-2205). | Town of Prescott Valley (21-09-1015P). | The Honorable Kell Palguta, Mayor, Town of Prescott Valley Civic Center, 7501 East Skoog Boulevard, 4th Floor, Prescott Valley, AZ 86314. | Town Hall, Engineering Division, 7501 East Civic Circle, Prescott Valley, AZ 86314. | Apr. 6, 2022 | 040121
California:
Contra Costa (FEMA Docket No.: B-2213). | City of Oakley (20-09-2109P). | The Honorable Sue Higgins, Mayor, City of Oakley, 3231 Main Street, Oakley, CA 94561. | Public Works and Engineering Department, 3231 Main Street, Oakley, CA 94561. | Feb. 7, 2022 | 060766
Fresno (FEMA Docket No.: B-2224). | City of Clovis (21-09-0911P). | The Honorable Jose Flores, Mayor, City of Clovis, 1033 5th Street, Clovis, CA 93612. | City Clerk's Office, Civic Center, 1033 5th Street, Clovis, CA 93612. | May 23, 2022 | 060044
Monterey (FEMA Docket No.: B-2224). | City of Seaside (21-09-1503P). | The Honorable Ian Oglesby, Mayor, City of Seaside, 440 Harcourt Avenue, Seaside, CA 93955. | Public Works Department, 610 Olympia Avenue, Seaside, CA 93955. | Jun. 6, 2022 | 060203
Placer (FEMA Docket No.: B-2213). | Unincorporated Areas of Placer County (21-09-1293P). | The Honorable Robert Weygandt, Chair, Board of Supervisors, Placer County, 175 Fulweiler Avenue, Auburn, CA 95603. | Placer County Public Works, 3091 County Center Drive, Suite 220, Auburn, CA 95603. | May 16, 2022 | 060239
Riverside (FEMA Docket No.: B-2224). | City of Banning (21-09-0855P). | The Honorable Kyle Pingree, Mayor, City of Banning, 99 East Ramsey Street, Banning, CA 92220. | Public Works Department, 99 East Ramsey Street, Banning, CA 92220. | May 31, 2022 | 060246
San Bernardino (FEMA Docket No.: B-2213). | City of Rancho Cucamonga (21-09-0942P). | The Honorable L. Dennis Michael, Mayor, City of Rancho Cucamonga, 10500 Civic Center Drive, Rancho Cucamonga, CA 91730. | City Hall, Engineering Department, Plaza Level, 10500 Civic Center Drive, Rancho Cucamonga, CA 91730. | Apr. 28, 2022 | 060671
San Diego (FEMA Docket No.: B-2224). | City of San Diego (21-09-1675P). | The Honorable Todd Gloria, Mayor, City of San Diego, 202 C Street, 11th Floor, San Diego, CA 92101. | Development Services Department, 1222 1st Avenue, MS 301, San Diego, CA 92101. | Jun. 30, 2022 | 060295
Ventura (FEMA Docket No.: B-2213). | City of Simi Valley (21-09-1199P). | The Honorable Keith L. Mashburn, Mayor, City of Simi Valley, 2929 Tapo Canyon Road, Simi Valley, CA 93063. | City Hall, 2929 Tapo Canyon Road, Simi Valley, CA 93063. | Apr. 15, 2022 | 060421
Florida: Duval (FEMA Docket No.: B-2213). | City of Jacksonville (21-04-0596P). | The Honorable Lenny Curry, Mayor, City of Jacksonville, 117 West Duval Street, Suite 400, Jacksonville, FL 32202. | City Hall, 117 West Duval Street, Jacksonville, FL 32202. | April 7, 2022 | 120077
Illinois:
Cook (FEMA Docket No.: B-2205). | City of Country Club Hills (21-05-1457P). | The Honorable James W. Ford, Mayor, City of Country Club Hills, 4200 West 183rd Street, Country Club Hills, IL 60478. | City Hall, 4200 West 183rd Street, Country Club Hills, IL 60478. | Mar. 11, 2022 | 170078
Cook (FEMA Docket No.: B-2205). | City of Palos Heights (21-05-3445P). | The Honorable Robert Straz, Mayor, City of Palos Heights, 7607 West College Drive, Palos Heights, IL 60463. | City Hall, 7607 West College Drive, Palos Heights, IL 60463. | Mar. 11, 2022 | 170142
Cook (FEMA Docket No.: B-2183). | Unincorporated Areas of Cook County (21-05-1469P). | The Honorable Toni Preckwinkle, President, Cook County Board, 118 North Clark Street, Room 537, Chicago, IL 60602. | Cook County Building and Zoning Department, 69 West Washington, 28th Floor, Chicago, IL 60602. | Feb. 4, 2022 | 170054
Cook (FEMA Docket No.: B-2205). | Unincorporated Areas of Cook County (21-05-3445P). | The Honorable Toni Preckwinkle, President, Cook County Board, 118 North Clark Street, Room 537, Chicago, IL 60602. | Cook County Building and Zoning Department, 69 West Washington, 28th Floor, Chicago, IL 60602. | Mar. 11, 2022 | 170054
Cook (FEMA Docket No.: B-2183). | Village of Franklin Park (21-05-1469P). | The Honorable Barrett F. Pedersen, Village President, Village of Franklin Park, 9500 Belmont Avenue, Franklin Park, IL 60131. | Village Hall, 9500 Belmont Avenue, Franklin Park, IL 60131. | Feb. 4, 2022 | 170094
Cook and DuPage (FEMA Docket No.: B-2183). | City of Chicago (21-05-1469P). | The Honorable Lori Lightfoot, Mayor, City of Chicago, 121 North LaSalle Street, Room 406, Chicago, IL 60602. | Department of Buildings, Stormwater Management, 121 North LaSalle Street, Room 906, Chicago, IL 60602. | Feb. 4, 2022 | 170074
DuPage (FEMA Docket No.: B-2183). | City of Naperville (19-05-1619P). | The Honorable Steve Chirico, Mayor, City of Naperville, Municipal Center, 400 South Eagle Street, Naperville, IL 60540. | Municipal Center, 400 South Eagle Street, Naperville, IL 60540. | Feb. 22, 2022 | 170213
Will (FEMA Docket No.: B-2183). | Village of Bolingbrook (22-05-0060P). | The Honorable Mary Alexander-Basta, Mayor, Village of Bolingbrook, 375 West Briarcliff Road, Bolingbrook, IL 60440. | Village Hall, 375 West Briarcliff Road, Bolingbrook, IL 60440. | Feb. 25, 2022 | 170812
Iowa:
Iowa (FEMA Docket No.: B-2224). | City of Marengo (21-07-1041P). | The Honorable Adam Rabe, Mayor, City of Marengo, P.O. Box 245, Marengo, IA 52301. | City Hall, 153 East Main Street, Marengo, IA 52301. | Mar. 10, 2022 | 190157
Iowa: Iowa (FEMA Docket No.: B-2224). | Unincorporated Areas of Iowa County (21-07-1041P). | The Honorable John Gahring, Chair, Board of Supervisors, Iowa County, 970 Court Avenue, Marengo, IA 52301. | Iowa County, Auditor's Office, 970 Court Avenue, Marengo, IA 52301. | Mar. 10, 2022 | 190878
Kansas: Johnson (FEMA Docket No.: B-2205). | City of Lenexa (21-07-0238P). | The Honorable Michael Boehm, Mayor, City of Lenexa, 17101 West 87th Street Parkway, Lenexa, KS 66219. | City Hall, 12350 West 87th Street Parkway, Lenexa, KS 66215. | Apr. 13, 2022 | 200168
Louisiana: Calcasieu Parish (FEMA Docket No.: B-2224). | Unincorporated Areas of Calcasieu Parish (21-06-1326P). | Bryan C. Beam, Parish Administrator, Calcasieu Parish, 1015 Pithon Street, 2nd Floor, Lake Charles, LA 70602. | Calcasieu Parish Planning and Development Department, 901 Lake Shore Drive, Lake Charles, LA 70601. | May 23, 2022 | 220037
Michigan:
Washtenaw (FEMA Docket No.: B-2224). | Township of Dexter (22-05-0189P). | Diane Ratkovich, Supervisor, Township of Dexter, 6880 Dexter-Pinckney Road, Dexter, MI 48130. | Township Hall, 6880 Dexter-Pinckney Road, Dexter, MI 48130. | May 6, 2022 | 260536
Washtenaw (FEMA Docket No.: B-2224). | Township of Northfield (22-05-0189P). | Kenneth Dignan III, Supervisor, Township of Northfield, 8350 Main Street, Whitmore Lake, MI 48189. | Township Hall, 75 Barker Road, Whitmore Lake, MI 48189. | May 6, 2022 | 260635
Michigan: Wayne (FEMA Docket No.: B-2213). | Charter Township of Plymouth (21-05-1510P). | Kurt Heise, Township Supervisor, Charter Township of Plymouth, 9955 North Haggerty Road, Plymouth, MI 48170. | Township Hall, 9955 North Haggerty Road, Plymouth, MI 48170. | May 6, 2022 | 260237
Wayne (FEMA Docket No.: B-2213). | Township of Canton (21-05-2918P). | Anne Marie Graham-Hudak, Supervisor, Canton Township, 1150 South Canton Center Road, Canton, MI 48188. | Canton Municipal Complex, 1150 South Canton Center Road, Canton, MI 48188. | May 6, 2022 | 260219
Minnesota: Marshall (FEMA Docket No.: B-2213). | City of Argyle (21-05-4569P). | The Honorable Robert Clausen, Mayor, City of Argyle, P.O. Box 288, Argyle, MN 56713. | City Hall, 701 Pacific Avenue, Argyle, MN 56713. | April 22, 2022 | 270268
Nebraska: Dawson (FEMA Docket No.: B-2213). | City of Gothenburg (21-07-0869P). | The Honorable Joyce Hudson, Mayor, City of Gothenburg, 409 9th Street, Gothenburg, NE 69138. | Town Hall, 409 9th Street, Gothenburg, NE 69138. | Apr. 29, 2022 | 310062
New York:
Erie (FEMA Docket No.: B-2205). | Town of Lancaster (20-02-1556P). | Ronald Ruffino, Sr., Supervisor, Town of Lancaster, 21 Central Avenue, Lancaster, NY 14086. | Town Hall, 21 Central Avenue, Lancaster, NY 14086. | May 17, 2022 | 360249
Onondaga (FEMA Docket No.: B-2205). | Town of Lysander (21-02-0578P). | Robert A. Wicks, Supervisor, Town of Lysander, 8220 Loop Road, Baldwinsville, NY 13027. | Town Hall, 8220 Loop Road, Baldwinsville, NY 13027. | May 3, 2022 | 360583
Rockland (FEMA Docket No.: B-2213). | Town of Ramapo (20-02-1315P). | The Honorable Michael B. Specht, Town Supervisor, Town of Ramapo, 237 Route 59, Suffern, NY 10901. | Ramapo Office of the Building Inspector, 237 Route 59, Suffern, NY 10901. | Jun. 1, 2022 | 365340
Westchester (FEMA Docket No.: B-2205). | Village of Mamaroneck (21-02-0550P). | The Honorable Thomas A. Murphy, Mayor, Village of Mamaroneck, 123 Mamaroneck Avenue, Mamaroneck, NY 10543. | Building Inspector, The Regatta Building, 123 Mamaroneck Avenue, Mamaroneck, NY 10543. | Apr. 20, 2022 | 360916
Texas:
Aransas (FEMA Docket No.: B-2213). | Unincorporated Areas of Aransas County (21-06-1547P). | The Honorable C.H. “Burt” Mills, Jr., County Judge, Commissioners Court, Aransas County Courthouse, 2840 Highway 35N, Rockport, TX 78382. | Aransas County Road and Bridge Office, 1931 FM 2165, Rockport, TX 78382. | May 16, 2022 | 485452
Tarrant (FEMA Docket No.: B-2205). | City of Arlington (21-06-0854P). | The Honorable Jim Ross, Mayor, City of Arlington, P.O. Box 90231, Arlington, TX 76004. | City Hall, 101 West Abram Street, Arlington, TX 76010. | Mar. 28, 2022 | 485454
Tarrant (FEMA Docket No.: B-2205). | City of Fort Worth (21-06-0854P). | The Honorable Mattie Parker, Mayor, City of Fort Worth, 200 Texas Street, Fort Worth, TX 76102. | Department of Transportation and Public Works, 200 Texas Street, Fort Worth, TX 76012. | Mar. 28, 2022 | 480596
Washington: King (FEMA Docket No.: B-2213). | City of Issaquah (21-10-0355P). | The Honorable Mary Lou Pauly, Mayor, City of Issaquah, 130 East Sunset Way, Issaquah, WA 98027. | City Hall, 1775 12th Avenue Northwest, Issaquah, WA 98027. | Apr. 26, 2022 | 530079
Wisconsin:
Dane (FEMA Docket No.: B-2205). | City of Madison (21-05-2552P). | The Honorable Satya Rhodes-Conway, Mayor, City of Madison, 210 Martin Luther King Jr. Boulevard, Room 403, Madison, WI 53703. | City Hall, 210 Martin Luther King Jr. Boulevard, Room 403, Madison, WI 53703. | Apr. 12, 2022 | 550083
Waukesha (FEMA Docket No.: B-2213). | Village of Menomonee Falls (21-05-3044P). | Dave Glasgow, Village President, Village of Menomonee Falls, W156 N8480 Pilgrim Road, Menomonee Falls, WI 53051. | Village Hall, W156 N8480 Pilgrim Road, Menomonee Falls, WI 53051. | Apr. 29, 2022 | 550483

[FR Doc. 2022-12381 Filed 6-8-22; 8:45 am]

BILLING CODE 9110-12-P